DEPARTMENT OF THE INTERIOR

National Park Service

Notice of Inventory Completion: Department of Anthropology & Ethnic Studies, University of Nevada Las Vegas, Las Vegas, NV

AGENCY: National Park Service, Interior.

ACTION: Notice.

Notice is here given in accordance with the Native American Graves Protection and Repatriation Act (NAGPRA), 25 U.S.C. 3003, of the completion of an inventory of human remains and an associated funerary object in the possession of the Department of Anthropology & Ethnic Studies, University of Nevada Las Vegas, Las Vegas, NV. The human remains and associated funerary object were removed from an unknown location in northern Nevada and from Churchill, Douglas, Lincoln, Pershing, and Nye Counties, NV.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

A detailed assessment of the human remains was made by the Department of Anthropology & Ethnic Studies, University of Nevada Las Vegas, professional staff in consultation with representatives of the Great Basin Inter-Tribal NAGPRA Coalition, a non-Federally recognized Indian group, which represents the Inter-Tribal Council of Nevada, a non-Federally recognized Indian group, and the following Federally-recognized Indian tribes: Alturas Indian Rancheria, California; Battle Mountain Shoshone Tribe (Constituent Band of the Te-Moak Tribe of Western Shoshone Indians of Nevada); Big Pine Paiute Band of Owens Valley Paiute Shoshone Indians of the Big Pine Reservation, California; Bridgeport Paiute Indian Colony of California; Burns Paiute Tribe, California; Chemehuevi Indian Tribe of the Chemehuevi Reservation, California; Duckwater Shoshone Tribe of the Duckwater Reservation, Nevada; Ely Shoshone Tribe of Nevada; Las Vegas Tribe of Paiute Indians of the Las Vegas Indian Colony, Nevada; Lovelock Paiute Tribe of the Lovelock Indian Colony, Nevada; Paiute-Shoshone Indians of the Bishop Community of the Bishop Colony, California; Paiute-Shoshone Tribe of the Fallon Reservation and Colony, Nevada; Reno-Sparks Indian Colony, Nevada; Shoshone-Paiute Tribes of the Duck Valley Reservation, Nevada; South Fork Band (Constituent Band of the Te-Moak Tribe of Western Shoshone Indians of Nevada); Susanville Indian Rancheria, California; Te-Moak Tribe of Western Shoshone Indians of Nevada; Yerington Paiute Tribe of the Yerington Colony & Campbell Ranch, Nevada; and Yomba Shoshone Tribe of the Yomba Reservation, Nevada. Direct consultation was made with the Duckwater Shoshone Tribe of the Duckwater Reservation, Nevada; Paiute-Shoshone Tribe of the Fallon Reservation and Colony, Nevada; and Pyramid Lake Paiute Tribe of the Pyramid Lake Reservation, Nevada.

At an unknown date, human remains representing a minimum of one individual were removed from northern Nevada (AHUR 0119A). At an unknown date, the human remains were donated to the Department of Anthropology. No known individual was identified. No associated funerary objects are present.

Analysis determined that the human remains are that of a pre-contact or early historic Native American adult male. No additional information is available regarding the circumstances surrounding removal.

In 1989, human remains representing a minimum of one individual were collected from Lovelock, Pershing County, NV, by the under-sheriff for that area (AHUR 120C). No known individual was identified. No associated funerary objects are present.

Analysis determined that the human remains are that of a pre-contact or early historic Native American adult. No additional information is available regarding the circumstances surrounding removal.

On April 11, 1984, human remains representing a minimum of one individual were removed from highway SR 206 near Wally's Hot Springs, south of the town of Genoa, Douglas County, NV (AHUR 531). Records indicate that skull fragments were observed resting on the ground by a Nevada Department of Transportation (NDOT) District II maintenance crew. Following this discovery, two NDOT archeologists surveyed the immediate area and concluded that the skull fragments had washed through a culvert that drained into a shallow wash. A subsequent survey, which was conducted uphill from the initial discovery, found additional human remains. No known individual was identified. No associated funerary objects are present.

Analysis determined that the human remains are that of a pre-contact or early historic Native American adult female.

On June 15, 1984, human remains representing a minimum of one individual were removed from a canal bank near Crystal Springs, Lincoln County, NV (FHUR 26). Records indicate that these remains were found by Raymond Phelps, while he was poking at the mud with a stick. The human remains were then excavated by officers from the Lincoln County Sheriff's Department and examined by the coroner, Dr. Sheldon Green. Dr. Green subsequently turned the remains over to the Department of Anthropology & Ethnic Studies, University of Nevada Las Vegas. No known individual was identified. No associated funerary objects are present.

Analysis determined that the human remains are that of a pre-contact or early historic Native American adult female, approximately 27 years of age.

At an unknown date, human remains representing a minimum of one individual were removed from Madison Socke's Ranch, Nye County, NV (FHUR 35). No known individual was identified. The one associated funerary object is a clay pipe.

No additional information is available regarding the circumstances surrounding removal. Radiocarbon analysis has indicated that the human remains date to between 1630 and 1440 B.C., and analysis determined that the remains are of an adult male. The pipe is similar in style to that used by prehistoric Great Basin Native Americans.

At an unknown date, human remains representing a minimum of one individual were removed from near the town of Fallon, Churchill County, NV (FHUR 36). Records indicate that the human remains were donated by a Mrs. Allen to the Department of Anthropology & Ethnic Studies, University of Nevada Las Vegas. No known individual was identified. No associated funerary objects are present.

Analysis determined that the human remains are that of a pre-contact or early historic Native American adult, probably female, and 45 years or more of age.

Archeological, linguistic, and oral historical evidence suggests that the geographical area where the above-mentioned human remains were found was occupied by Western Shoshone and Paiute groups during pre-contact and early historic times. Therefore, museum officials reasonably believe the human remains and associated funerary object to be culturally affiliated to Western Shoshone and Paiute Indian tribes. Descendants of the Western Shoshone and Paiute are represented by the Alturas Indian Rancheria, California; Battle Mountain Shoshone Tribe (Constituent Band of the Te-Moak Tribe of Western Shoshone Indians of Nevada); Big Pine Paiute Band of Owens Valley Paiute Shoshone Indians of the Big Pine Reservation, California; Bridgeport Paiute Indian Colony of California; Burns Paiute Tribe, California; Cedarville Rancheria, California; Chemehuevi Indian Tribe of the Chemehuevi Reservation, California; Confederated Tribes of the Goshute Reservation, Nevada and Utah; Death Valley Timibi-Sha Shoshone Band of California; Duckwater Shoshone Tribe of the Duckwater Reservation, Nevada; Elko Band (Constituent Band of the Te-Moak Tribe of Western Shoshone Indians of Nevada); Ely Shoshone Tribe of Nevada; Fort Independence Indian Community of Paiute Indians of the Fort Independence Reservation, California; Fort McDermitt Paiute and Shoshone Tribes of the Fort McDermitt Indian Reservation, Arizona; Las Vegas Tribe of Paiute Indians of the Las Vegas Indian Colony, Nevada; Lovelock Paiute Tribe of the Lovelock Indian Colony, Nevada; Moapa Band of Paiute Indians of the Moapa River Indian Reservation, Nevada; Northwestern Band of Shoshoni Nation of Utah (Washakie); Paiute Indian Tribe of Utah; Paiute-Shoshone Indians of the Bishop Community of the Bishop Colony, California; Paiute-Shoshone Tribe of the Fallon Reservation and Colony, Nevada; Paiute-Shoshone Tribe of the Lone Pine Community of the Lone Pine Reservation, California; Pyramid Lake Paiute Tribe of the Pyramid Lake Reservation, Nevada; Reno-Sparks Indian Colony, Nevada; San Juan Southern Paiute Tribe of Arizona; Shoshone Tribe of the Wind River Reservation, Wyoming; Shoshone-Bannock Tribes of the Fort Hall Reservation of Idaho; Shoshone-Paiute Tribes of the Duck Valley Reservation, Nevada; South Fork Band (Constituent Band of the Te-Moak Tribe of Western Shoshone Indians of Nevada); Summit Lake Paiute Tribe of Nevada; Susanville Indian Rancheria, California; Te-Moak Tribe of Western Shoshone Indians of Nevada; Utu Utu Gwaitu Paiute Tribe of the Benton Paiute Reservation, California; Walker River Paiute Tribe of the Walker River Reservation, Nevada; Washoe Tribe of Nevada and California; Wells Band (Constituent Band of the Te-Moak Tribe of Western Shoshone Indians of Nevada); Winnemucca Indian Colony of Nevada; Yerington Paiute Tribe of the Yerington Colony & Campbell Ranch, Nevada; and Yomba Shoshone Tribe of the Yomba Reservation, Nevada.

The Paiute-Shoshone Tribe of the Fallon Reservation and Colony, Nevada, have made a claim for the human remains and associated funerary object on behalf of the Great Basin Inter-Tribal NAGPRA Coalition, a non-federally recognized Indian group, and its members of federally-recognized Indian tribes.

Officials of the Department of Anthropology & Ethnic Studies, University of Nevada Las Vegas, have determined that, pursuant to 25 U.S.C. 3001(9), the human remains described above represent the physical remains of six individuals of Native American ancestry. Officials of the Department of Anthropology & Ethnic Studies, University of Nevada Las Vegas, also have determined that, pursuant to 25 U.S.C. 3001(3)(A), the one object described above is reasonably believed to have been placed with or near individual human remains at the time of death or later as part of the death rite or ceremony. Lastly, officials of the Department of Anthropology & Ethnic Studies, University of Nevada Las Vegas, have determined that, pursuant to 25 U.S.C. 3001(2), there is a relationship of shared group identity that can be reasonably traced between the Native American human remains and associated funerary object and the Alturas Indian Rancheria, California; Battle Mountain Shoshone Tribe; Big Pine Paiute Band of Owens Valley Paiute Shoshone Indians of the Big Pine Reservation, California; Bridgeport Paiute Indian Colony of California; Burns Paiute Tribe, California; Cedarville Rancheria, California; Chemehuevi Indian Tribe of the Chemehuevi Reservation, California; Confederated Tribes of the Goshute Reservation, Nevada and Utah; Death Valley Timibi-Sha Shoshone Band of California; Duckwater Shoshone Tribe of the Duckwater Reservation, Nevada; Elko Band; Ely Shoshone Tribe of Nevada; Fort Independence Indian Community of Paiute Indians of the Fort Independence Reservation, California; Fort McDermitt Paiute and Shoshone Tribes of the Fort McDermitt Indian Reservation, Arizona; Las Vegas Tribe of Paiute Indians of the Las Vegas Indian Colony, Nevada; Lovelock Paiute Tribe of the Lovelock Indian Colony, Nevada; Moapa Band of Paiute Indians of the Moapa River Indian Reservation, Nevada; Northwestern Band of Shoshoni Nation of Utah (Washakie); Paiute Indian Tribe of Utah; Paiute-Shoshone Indians of the Bishop Community of the Bishop Colony, California; Paiute-Shoshone Tribe of the Fallon Reservation and Colony, Nevada; Paiute-Shoshone Tribe of the Lone Pine Community of the Lone Pine Reservation, California; Pyramid Lake Paiute Tribe of the Pyramid Lake Reservation, Nevada; Reno-Sparks Indian Colony, Nevada; San Juan Southern Paiute Tribe of Arizona; Shoshone Tribe of the Wind River Reservation, Wyoming; Shoshone-Bannock Tribes of the Fort Hall Reservation of Idaho; Shoshone-Paiute Tribes of the Duck Valley Reservation, Nevada; South Fork Band; Summit Lake Paiute Tribe of Nevada; Susanville Indian Rancheria, California; Te-Moak Tribe of Western Shoshone Indians of Nevada; Utu Utu Gwaitu Paiute Tribe of the Benton Paiute Reservation, California; Walker River Paiute Tribe of the Walker River Reservation, Nevada; Washoe Tribe of Nevada and California; Wells Band; Winnemucca Indian Colony of Nevada; Yerington Paiute Tribe of the Yerington Colony & Campbell Ranch, Nevada; and Yomba Shoshone Tribe of the Yomba Reservation, Nevada.

Representatives of any other Indian tribe that believes itself to be culturally affiliated with the human remains and associated funerary object should contact Dr. Karen Harry, Department of Anthropology & Ethnic Study, University of Nevada Las Vegas, 4505 Maryland Parkway, Box 455003, Las Vegas, NV 89154-5003, telephone (702) 895-2534, before October 21, 2010. Repatriation of the human remains and associated funerary object to the Paiute-Shoshone Tribe of the Fallon Reservation and Colony, Nevada, representing the Great Basin Inter-Tribal NAGPRA Coalition, a non-Federally recognized Indian group, and its members, may proceed after that date if no additional claimants come forward.

The Department of Anthropology & Ethnic Studies, University of Nevada Las Vegas, is responsible for notifying officials of the Alturas Indian Rancheria, California; Battle Mountain Shoshone Tribe; Big Pine Paiute Band of Owens Valley Paiute Shoshone Indians of the Big Pine Reservation, California; Bridgeport Paiute Indian Colony of California; Burns Paiute Tribe, California; Cedarville Rancheria, California; Chemehuevi Indian Tribe of the Chemehuevi Reservation, California; Confederated Tribes of the Goshute Reservation, Nevada and Utah; Death Valley Timibi-Sha Shoshone Band of California; Duckwater Shoshone Tribe of the Duckwater Reservation, Nevada; Elko Band; Ely Shoshone Tribe of Nevada; Fort Independence Indian Community of Paiute Indians of the Fort Independence Reservation, California; Fort McDermitt Paiute and Shoshone Tribes of the Fort McDermitt Indian Reservation, Arizona; Las Vegas Tribe of Paiute Indians of the Las Vegas Indian Colony, Nevada; Lovelock Paiute Tribe of the Lovelock Indian Colony, Nevada; Moapa Band of Paiute Indians of the Moapa River Indian Reservation, Nevada; Northwestern Band of Shoshoni Nation of Utah (Washakie); Paiute Indian Tribe of Utah; Paiute-Shoshone Indians of the Bishop Community of the Bishop Colony, California; Paiute-Shoshone Tribe of the Fallon Reservation and Colony, Nevada; Paiute-Shoshone Tribe of the Lone Pine Community of the Lone Pine Reservation, California; Pyramid Lake Paiute Tribe of the Pyramid Lake Reservation, Nevada; Reno-Sparks Indian Colony, Nevada; San Juan Southern Paiute Tribe of Arizona; Shoshone Tribe of the Wind River Reservation, Wyoming; Shoshone-Bannock Tribes of the Fort Hall Reservation of Idaho; Shoshone-Paiute Tribes of the Duck Valley Reservation, Nevada; South Fork; Summit Lake Paiute Tribe of Nevada; Susanville Indian Rancheria, California; Te-Moak Tribe of Western Shoshone Indians of Nevada; Utu Utu Gwaitu Paiute Tribe of the Benton Paiute Reservation, California; Walker River Paiute Tribe of the Walker River Reservation, Nevada; Washoe Tribe of Nevada and California; Wells Band; Winnemucca Indian Colony of Nevada; Yerington Paiute Tribe of the Yerington Colony & Campbell Ranch, Nevada; and Yomba Shoshone Tribe of the Yomba Reservation, Nevada, that this notice has been published.

Dated: September 10, 2010.
Sherry Hutt,
Manager, National NAGPRA Program.

[FR Doc. 2010-23412 Filed 9-20-10; 8:45 am]

BILLING CODE P